DEPARTMENT OF COMMERCE

National Oceanic and Atmospheric Administration

Agency Information Collection Activities; Submission to the Office of Management and Budget (OMB) for Review and Approval; Comment Request; Atlantic Highly Migratory Species Permit Family of Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before May 13, 2024.

ADDRESSES: Interested persons are invited to submit written comments to Adrienne Thomas, NOAA PRA Officer, at NOAA.PRA@noaa.gov. Please reference OMB Control Number 0648-0327 in the subject line of your comments. Do not submit Confidential Business Information or otherwise sensitive or protected information.

FOR FURTHER INFORMATION CONTACT: Requests for additional information or specific questions related to collection activities should be directed to Cliff Hutt, Fishery Management Specialist, National Marine Fisheries Service (NMFS) Highly Migratory Species (HMS) Management Division, at 301-427-8542 or cliff.hutt@noaa.gov.

SUPPLEMENTARY INFORMATION:

I. Abstract

This request is for the revision and extension of a current information collection, which includes both vessel and dealer permits.

Under the provisions of the Magnuson-Stevens Fishery Conservation and Management Act (Magnuson-Stevens Act; 16 U.S.C. 1801 et seq.), NMFS is responsible for management of the Nation's marine fisheries. In addition, NMFS must comply with the United States' obligations under the Atlantic Tunas Convention Act of 1975 (ATCA; 16 U.S.C. 971 et seq.).] Atlantic highly migratory species (HMS) fisheries are managed under the 2006 Consolidated HMS Fishery Management Plan (FMP) and its amendments pursuant to the Magnuson-Stevens Act and consistent with ATCA. HMS implementing regulations are at 50 CFR part 635. NMFS issues permits to fishing vessels and dealers in order to collect information necessary to comply with domestic and international obligations, secure compliance with regulations, and disseminate necessary information. Regulations at § 635.4 require that vessels participating in commercial and recreational fisheries for Atlantic HMS and dealers purchasing Atlantic HMS from a vessel obtain a federal permit issued by NMFS.

This action addresses the renewal of permit applications currently approved under OMB control number 0648-0327, including both vessel and Atlantic Tunas Dealer permits. Vessel permits include Atlantic Tunas (except Longline permits, which are approved under OMB control number 0648-0205), HMS Charter/Headboat, HMS Angling, and Swordfish General Commercial permits. This action also includes the one-time requirement for commercial vessels greater than 20 meters in length to obtain an International Maritime Organization/Lloyd's Registry (IMO/LR) number.

This action is also being revised to include a new requirement for all HMS vessel permit applications to be submitted online starting in 2025, and the one-time requirement for all permit applicants to set up an account on the HMS permits website. The latter was implemented to make the program compatible with current federal data security requirements and will make it easier for permit holders with multiple vessel permits to manage their permits by linking them all within a single account. Finally, the action is revised to remove the ability to submit an application for an Atlantic Tunas Purse Seine category permit, as the Atlantic Tunas Purse Seine category was discontinued as part of Amendment 13 to the 2006 Consolidated HMS Fishery Management Plan after years of inactivity in the bluefin tuna fishery. More information on that action can be found in the Amendment 13 final rule (87 FR 59966, October 3, 2022).

The burden estimates in this renewal are also being updated to reflect increases in the total number of permits issued each year, and a $1 increase in the price of HMS vessel permits to $27 per permit, due to increased costs associated with maintaining and executing the program.

II. Method of Collection

Method of submittal will be electronic (online) only via the NMFS Permit Shop.

III. Data

OMB Control Number: 0648-0327.

Form Number(s): None.

Type of Review: Regular submission (request for revision and extension of a current information collection).

Affected Public: Individuals or households; Business or other for-profit organizations.

Estimated Number of Respondents: 40,400.

Estimated Time per Response: Renewal of Atlantic Tunas Dealer Permit application, 5 minutes; renewal applications for the following vessel permits—Atlantic Tunas, HMS Charter/Headboat, HMS Angling, and Swordfish General Commercial, 10 minutes; initial Atlantic Tunas Dealer Permit application, 15 minutes; initial applications for the following vessel permits—Atlantic Tunas, HMS Charter/Headboat, HMS Angling, and Swordfish General Commercial, 35 minutes; one-time application for the IMO/LR number, 30 minutes.

Estimated Total Annual Burden Hours: 10,933.

Estimated Total Annual Cost to Public: $1,073,550.

Respondent's Obligation: Mandatory.

Legal Authority: Magnuson-Stevens Fishery Conservation and Management Act (16 U.S.C. 1801 et seq.), and the Atlantic Tunas Convention Act of 1975 (16 U.S.C. 971 et seq.).

IV. Request for Comments

We are soliciting public comments to allow the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request (ICR). Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-05456 Filed 3-13-24; 8:45 am]

BILLING CODE 3510-22-P